DEPARTMENT OF COMMERCE

International Trade Administration

[A-570-890]

Wooden Bedroom Furniture From the People's Republic of China; Initiation of New Shipper Reviews

AGENCY: Import Administration, International Trade Administration, Department of Commerce.

EFFECTIVE DATE: March 7, 2008.

SUMMARY: The Department of Commerce (the “Department”) received timely requests to conduct new shipper reviews of the antidumping duty order on wooden bedroom furniture from the People's Republic of China (“PRC”). In accordance with 19 CFR 351.214(d)(1), we are initiating new shipper reviews for Golden Well International (HK), Ltd. (“Golden Well”) and its supplier Zhangzhou XYM Furniture Product Co., Ltd. (Zhangzhou XYM), and for Dongguan Sunshine Furniture Co., Ltd. (“Sunshine”).

FOR FURTHER INFORMATION CONTACT: Paul Stolz or Hua Lu, AD/CVD Operations, Office 8, Import Administration, International Trade Administration, U.S. Department of Commerce, 14th Street and Constitution Avenue, NW, Washington, DC 20230; telephone: (202) 482-4474 or (202) 482-6478, respectively.

SUPPLEMENTARY INFORMATION: The Department received timely requests from Sunshine and Golden Well on January 4 and 31, 2008 respectively, pursuant to section 751(a)(2)(B) of the Tariff Act of 1930, as amended (“the Act”), and in accordance with 19 CFR 351.214(c), for new shipper reviews of the antidumping duty order on wooden bedroom furniture from the PRC. See Notice of Amended Final Determination of Sales at Less than Fair Value and Antidumping Duty Order: Wooden Bedroom Furniture from the People's Republic of China, 70 FR 329 (January 4, 2005).

Pursuant to the requirements set forth in 19 CFR 351.214(b)(2)(i), in their requests for new shipper reviews, Golden Well, as an exporter, and its supplier Zhangzhou XYM, and Sunshine, as a producing exporter, all certified that (1) they did not export wooden bedroom furniture to the United States during the period of investigation (“POI”); (2) since the initiation of the investigation, they have never been affiliated with any company that exported subject merchandise to the United States during the POI; and (3) their export activities were not controlled by the central government of the PRC.

In accordance with 19 CFR 351.214(b)(2)(iv), Golden Well and Sunshine submitted documentation establishing the following: (1) the date on which they first shipped wooden bedroom furniture for export to the United States; (2) the volume of their first shipment; and (3) the date of their first sale to an unaffiliated customer in the United States.

Initiation of New Shipper Review

In accordance with section 751(a)(2)(B) of the Act and 19 CFR 351.214(d)(1), and based on information on the record, we find that Golden Well'S and Sunshine's requests meet the initiation threshold requirements and we are initiating new shipper reviews for shipments of wooden bedroom furniture exported by Golden Well that were produced by Zhangzhou XYM, and shipments of wooden bedroom furniture produced and exported by Sunshine. See Memorandum to the File through Wendy J. Frankel, Director, New Shipper Initiation Checklist, dated February 29, 2008. The Department will conduct these new shipper reviews according to the deadlines set forth in section 751(a)(2)(B)(iv) of the Act.

Pursuant to 19 CFR 351.214(g)(1)(i)(A), the period of review (“POR”) for a new shipper review initiated in the month immediately following the anniversary month will be the 12-month period immediately preceding the anniversary month. In this case, the relevant anniversary month of the order is January 2008. Therefore, the POR for the new shipper reviews of Golden Well and Sunshine will be January 1 through December 31, 2007.

It is the Department's usual practice, in cases involving non-market economies, to require that a company seeking to establish eligibility for an antidumping duty rate separate from the country-wide rate provide evidence of de jure and de facto absence of government control over the company's export activities. Accordingly, we will issue questionnaires to Golden Well and Sunshine, which will include a separate-rate section. The reviews will proceed if the responses provide sufficient indication that Golden Well and Sunshine are not subject to either de jure or de facto government control with respect to their exports of wooden bedroom furniture.

On August 17, 2006, the Pension Protection Act of 2006 (H.R. 4) was signed into law. Section 1632 of H.R. 4 temporarily suspends the authority of the Department to instruct U.S. Customs and Border Protection to collect a bond or other security in lieu of a cash deposit in new shipper reviews. Therefore, the posting of a bond or other security under section 751(a)(2)(B)(iii) of the Act in lieu of a cash deposit is not available in this case. Importers of wooden bedroom furniture 1) produced by Zhangzhou XYM and exported by Golden Well, or 2) produced and exported by Sunshine must continue to post cash deposits of estimated antidumping duties on each entry of subject merchandise (i.e., wooden bedroom furniture) at the PRC-wide entity rate of 216.01 percent.

Interested parties that need access to proprietary information in this new shipper review should submit applications for disclosure under administrative protective order in accordance with 19 CFR 351.305 and 351.306.

This initiation and notice are issued in accordance with section 751(a)(2)(B) of the Act and 19 CFR 351.214 and 351.221(c)(1)(i).

Dated: February 29, 2008.
Stephen J. Claeys,
Deputy Assistant Secretary for Import Administration.

[FR Doc. E8-4546 Filed 3-6-08; 8:45 am]

BILLING CODE 3510-DS-S